DEPARTMENT OF EDUCATION

National Board for Education Sciences; Meeting

AGENCY: National Board for Education Sciences; ED.

ACTION: Notice of partially closed meeting.

SUMMARY: This notice sets forth the schedule and proposed agenda of a forthcoming meeting of the National Board for Education Sciences. Notice of this meeting is required under Section 10(a)(2) of the Federal Advisory Committee Act. This document is intended to notify the general public of their opportunity to attend the open portion of the meeting. Individuals who will need accommodations for a disability in order to attend the meeting (i.e., interpreting services, assistive listening devices, materials in alternative format) should notify Mary Grace Lucier at (202) 219-2253 by April 20. We will attempt to meet requests after this date, but cannot guarantee availability of the requested accommodation. The meeting site is accessible to individuals with disabilities.

DATES: April 27, 2005.

Time: 8:30 a.m. to 4 p.m.

Location: Room 100, 80 F St., NW., Washington, DC 20208-7564.

FOR FURTHER INFORMATION CONTACT: Mary Grace Lucier, Designated Federal Official, National Board for Education Sciences, Washington, DC 20208. Tel: (202) 219-2253; fax: (202) 219-1466; e-mail: Mary Grace Lucier@ed.gov.

SUPPLEMENTARY INFORMATION: The National Board for Education Sciences is authorized by Section 116 of the Education Sciences Reform Act of 2002. The Board advises the Director of the Institute of Education Sciences (IES) on the establishment of activities to be supported by the Institute, on the funding of application for grants, contracts, and cooperative agreements for research after the completion of peer review, and reviews and evaluates the work of the Institute. On April 27 in its morning session, the Board will hear a presentation related to IES research priorities and receive briefings on IES technical and peer review policy and procedures and on its communications strategy and plan. The Board's committees, i.e., on Research, Evaluation, Statistics, and Special Education Research, will meet separately in adjacent rooms from approximately 1:15 p.m. to 2:15 p.m. Members of the public who wish to attend these sessions should contact Mary Grace Lucier to ensure adequate seating.

The full Board will meet in closed session from approximately 3 p.m. to 4 p.m. The Board will discuss the qualifications and fitness of at least two candidates for the position of executive director. This meeting relates to the internal personnel practices of the agency, and if information about the candidates were disclosed in open session, this would constitute an unwarranted invasion of personal privacy. The Board closes this portion of the meeting under the authority of Section 10 (d) of the Federal Advisory Committee Act (Pub. L. 92-463; 5 U.S.C. Appendix 2) and exemptions (2) and (6) of Section 552b(c) of the Government in the Sunshine Act (Pub. L. 94-409; 5 U.S.C. 552(b)(6)). A final agenda will be available from Mary Grace Lucier on April 20.

A summary of the activities at the closed session and related matters which are informative to the public consistent with the policy of Title 5 U.S.C. 552b(c) will be available to the public. Records will be kept of all Board proceedings and will be available for public inspection at the office of the National Board for Education Sciences, Suite 100, 80 F St., NW., Washington, DC 20208.

Dated: April 15, 2005.
Grover J. Whitehurst,
Director, Institute of Education Sciences.

[FR Doc. 05-7302 Filed 4-11-05; 8:45 am]

BILLING CODE 4000-01-M